SMALL BUSINESS ADMINISTRATION

[Declaration of Disaster #3578]

State of Iowa; Amendment #2

In accordance with a notice received from the Department of Homeland Security—Federal Emergency Management Agency, effective June 14, 2004, the above numbered declaration is hereby amended to include Carroll, Fremont, Mills, and Page Counties as disaster areas due to damages caused by severe storms, tornadoes, and flooding occurring on May 19, 2004, and continuing.

In addition, applications for economic injury loans from small businesses located in the contiguous counties of Cass and Otoe in the State of Nebraska; and Atchison and Nodaway Counties in the State of Missouri may be filed until the specified date at the previously designated location. All other counties contiguous to the above named primary counties have been previously declared. The number assigned to this disaster for economic injury is 9ZJ800 for Missouri. All other information remains the same, i.e., the deadline for filing applications for physical damage is July 26, 2004, and for economic injury the deadline is February 25, 2005.

(Catalog of Federal Domestic Assistance Program Nos. 59002 and 59008.)
Dated: June 16, 2004.
Herbert L. Mitchell,
Associate Administrator for Disaster Assistance.

[FR Doc. 04-14086 Filed 6-21-04; 8:45 am]

BILLING CODE 8025-01-P